DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: National Employers Survey 2000.

Form Number(s): None.

Agency Approval Number: 0607-0787.

Type of Request: Reinstatement, with change, of an expired collection.

Burden: 6,500 hours.

Number of Respondents: 18,000.

Avg Hours Per Response: 21 and one half minutes.

Needs and Uses: The Census Bureau requests approval to conduct the 2000 National Employers Survey (NES-2000) which includes a linked Employee Survey. The Census Bureau conducted two earlier National Employers Surveys (1994 and 1997) and two supplemental Employer surveys (1996 and 1998). As with the previous surveys, NES 2000 will be conducted on a reimbursable basis through the Department of Education's Office of Educational Research and Improvement (OERI), and the National Center for Postsecondary Improvement (NCPI). Funding will be provided by the National Center for Education Statistics and the National School-to-Work Office.

The NES 2000 will provide specific and unique information on employers' recruiting, hiring, training, and other work environment and human resources practices from both the employer and employee perspectives. The NES 2000 will provide the Census Bureau with information on formal and informal training programs and participation by establishments in school-to-work programs of various types.

This data collection effort will provide, for the first-time, information collected from employees of a sample of the employer establishments. Employee histories and employee perceptions of training programs and their working environment will be collected directly from employees. The information from these employees will be linked to the employer information enabling analysts to identify those areas where employee and employer views are similar and where they are different.

The information from the linked surveys will help the sponsors and other concerned organizations to determine how our Nation's firms and schools can improve their effectiveness through improved education, recruiting and hiring, training, and school-to-work programs.

The NES 2000 will incorporate a telephone survey of 3,000 business establishments that completed the telephone interview for NES-III, the 1997 survey. As we conduct the telephone survey, we will ask employers to volunteer to participate in the employee survey. The survey of employees will cover up to 15,000 employees. Employers who volunteer to participate in the employee survey will receive 30 employee questionnaires and simple instructions on how to forward the questionnaires to a sample of their employees. The employees will then complete the questionnaires and mail them back to the Census Bureau.

Affected Public: Businesses or other for-profit organizations.

Frequency: One-time.

Respondent's Obligation: Voluntary.

Legal Authority: Title 13 USC, Section 182; National Education Statistics Act, Chapter 71, Title 20.

OMB Desk Officer: Susan Schechter, (202) 395-5103.

Copies of the above information collection proposal can be obtained by calling or writing Linda Engelmeier, DOC Forms Clearance Officer, (202) 482-3272, Department of Commerce, room 5033, 14th and Constitution Avenue, NW., Washington, DC 20230 (or via the Internet at LEngelme@doc.gov).

Written comments and recommendations for the proposed information collection should be sent within 30 days of publication of this notice to Susan Schechter, OMB Desk Officer, room 10201, New Executive Office Building, Washington, DC 20503.

Dated: May 5, 2000.
Madeleine Clayton,
Management Analyst, Office of the Chief Information Officer.

[FR Doc. 00-11699 Filed 5-9-00; 8:45 am]

BILLING CODE 3510-07-P